DEPARTMENT OF TRANSPORTATION

Federal Aviation Administration

14 CFR Part 39

[Docket No. FAA-2022-1057; Project Identifier AD-2022-00526-A; Amendment 39-22154; AD 2022-18-03]

RIN 2120-AA64

Airworthiness Directives; Honda Aircraft Company LLC Airplanes

AGENCY: Federal Aviation Administration (FAA), DOT.

ACTION: Final rule; request for comments.

SUMMARY: The FAA is superseding Airworthiness Directive (AD) 2022-05-13, which applied to certain Honda Aircraft Company LLC (Honda) Model HA-420 airplanes. AD 2022-05-13 required incorporating temporary revisions into the airplane flight manual (AFM) and the quick reference handbook (QRH) that modify procedures for windshield heat operation until the affected windshield assemblies are replaced. This AD was prompted by typographical errors found in certain document numbers specified in the preamble and in certain paragraphs of the regulatory information in AD 2022-05-13. This AD retains all actions required by AD 2022-05-13 and corrects the incorrect document numbers. The FAA is issuing this AD to address the unsafe condition on these products.

DATES: This AD is effective September 22, 2022.

The Director of the Federal Register approved the incorporation by reference of certain publications listed in this AD as of September 22, 2022.

The Director of the Federal Register approved the incorporation by reference of a certain other publication listed in this AD as of April 18, 2022 (87 FR 14155, March 14, 2022).

The FAA must receive any comments on this AD by October 24, 2022.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Honda Aircraft Company LLC, 6430 Ballinger Road, Greensboro, NC 27410; phone: (336) 662-0246; website: hondajet.com. You may view this service information at the FAA, Airworthiness Products Section, Operational Safety Branch, 901 Locust, Kansas City, MO 64106. For information on the availability of this material at the FAA, call (817) 222-5110. It is also available at regulations.gov by searching for and locating Docket No. FAA-2022-1057.

Examining the AD Docket

You may examine the AD docket at regulations.gov by searching for and locating Docket No. FAA-2022-1057; or in person at Docket Operations between 9 a.m. and 5 p.m., Monday through Friday, except Federal holidays. The AD docket contains this final rule, any comments received, and other information. The street address for Docket Operations is listed above.

FOR FURTHER INFORMATION CONTACT: Bryan Long, Aviation Safety Engineer, Atlanta ACO Branch, FAA, 1701 Columbia Avenue, College Park, GA 30337; phone: (404) 474-5578; email: 9-ASO-ATLACO-ADs@faa.gov.

SUPPLEMENTARY INFORMATION:

Background

The FAA issued AD 2022-05-13, Amendment 39-21965 (87 FR 14155, March 14, 2022) (AD 2022-05-13), for certain serial-numbered Honda Model HA-420 airplanes, with a certain windshield assembly installed. AD 2022-05-13 required incorporating temporary revisions into the AFM and the QRH that modify procedures for windshield heat operation until the affected windshield assemblies are replaced. AD 2022-05-13 resulted from a report of in-flight smoke and fire that initiated from the windshield heat power wire braid. The FAA issued AD 2022-05-13 to prevent arcing of the windshield heat power wire braid, which could ignite the wire sheathing and sealant and the windshield acrylic, resulting in possible smoke and fire in the cockpit.

Actions Since AD 2022-05-13 Was Issued

Since the FAA issued AD 2022-05-13, typographical errors were found in the document numbers of the AFMs and QRHs in the “Related Service Information under 1 CFR part 51” section of the preamble and paragraphs (g)(1)(i) through (iv) and paragraphs (l)(2)(i) through (iv) of the regulatory information. Errors were also found in the document citation for Honda Aircraft Company Alert Service Bulletin SB-420-56-002, Revision B, dated April 19, 2021 (Honda SB-420-56-002, Revision B), in certain references in the preamble. This AD retains all actions required by AD 2022-05-13 and corrects the typographical errors in the identified document citations. The FAA is issuing this AD to address the unsafe condition on these products.

FAA's Determination

The FAA is issuing this AD because the agency determined the unsafe condition described previously is likely to exist or develop in other products of the same type design.

Related Service Information Under 1 CFR Part 51

The FAA reviewed the following temporary revisions. These temporary revisions provide modified procedures for windshield heat operation to reduce exposure to potential windshield heat for the applicable serial numbers specified on the documents.

• Honda Aircraft Company Temporary Revision TR 04A-1, dated 2020, for Airplane Flight Manual HJ1-29000-003-001 Rev E.

• Honda Aircraft Company Temporary Revision TR 04A-1, dated 2020, for Airplane Flight Manual HJ1-29001-003-001 Rev C.

• HondaJet Temporary Revision TR 04A-1, dated 2020, for Quick Reference Handbook HJ1-29000-007-001 Rev E.

• HondaJet Temporary Revision TR 04A-1, dated 2020, for Quick Reference Handbook HJ1-29001-007-001 Rev C.

This AD also requires the following service information, which the Director of the Federal Register approved for incorporation by reference as of April 18, 2022 (87 FR 14155, March 14, 2022).

• Honda SB-420-56-002, Revision B.

This service information is reasonably available because the interested parties have access to it through their normal course of business or by the means identified in ADDRESSES section.

AD Requirements

This AD requires accomplishing the actions specified in the service information already described, except as discussed under “Differences Between this AD and the Service Information.”

Differences Between This AD and the Service Information

Honda issued temporary revisions to the AFM, QRH, and electronic checklist (ECL) prior to issuing Honda SB-420-56-002, Revision B, which specifies replacement of the windshield assemblies. Honda SB-420-56-002, Revision B, does not specify incorporating the temporary revisions to the AFM, QRH, and ECL but addresses removal if the temporary revisions were incorporated. This AD does not require incorporating or removing the temporary revisions to the ECL because the ECL is not part of the approved type design of the airplane. All pertinent requirements would be addressed through the AFM.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

Since this action retains all of the requirements of AD 2022-05-13 and only corrects obvious errors in document citations, it is unlikely that the FAA will receive any adverse comments or useful information about this AD from U.S. operators. Accordingly, notice and opportunity for prior public comment are unnecessary pursuant to 5 U.S.C. 553(b)(3)(B). In addition, the FAA finds that good cause exists pursuant to 5 U.S.C. 553(d) for making this amendment effective in less than 30 days.

Comments Invited

The FAA invites you to send any written data, views, or arguments about this final rule. Send your comments to an address listed under ADDRESSES. Include “Docket No. FAA-2022-1057 and Project Identifier AD-2022-00526-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Bryan Long, Aviation Safety Engineer, Atlanta ACO Branch, FAA, 1701 Columbia Avenue, College Park, GA 30337. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 156 airplanes of U.S. registry. There are 475 affected windshield assemblies worldwide, and the FAA has no way of knowing the number of affected windshield assemblies installed on U.S. airplanes. The estimated cost on U.S. operators reflects the maximum possible cost based on the 156 airplanes of U.S. registry. This new AD only retains the actions required by AD 2022-05-13 and, therefore, adds no new costs to affected operators.

The FAA estimates the following costs to comply with this AD:

Estimated Costs
Action | Labor cost | Parts cost | Cost per airplane | Cost on U.S. operators
Insert revised procedures in the AFM and QRH | 1 work-hour × $85 per hour = $85 | Not applicable | $85 | $13,260
Windshield assembly replacement (both left and right assemblies) * | 154 work-hours × $85 per hour = $13,090 | $153,286 | 166,376 | 25,954,656
Remove revised procedures from the AFM and QRH | 1 work-hour × $85 per hour = $85 | Not applicable | 85 | 13,260
* On most airplanes, both the left and right windshield assemblies have a serial number affected by the unsafe condition, and the above costs represent replacement of both the left and right windshield assemblies. However, some airplanes may only have one affected windshield assembly and not require replacement of both.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2022-05-13, Amendment 39-21965 (87 FR 14155, March 14, 2022); and

b. Adding the following new airworthiness directive:

2022-18-03 Honda Aircraft Company LLC: Amendment 39-22154; Docket No. FAA-2022-1057; Project Identifier AD-2022-00526-A.

(a) Effective Date

This airworthiness directive (AD) is effective September 22, 2022.

(b) Affected ADs

This AD replaces AD 2022-05-13, Amendment 39-21965 (87 FR 14155, March 14, 2022) (AD 2022-05-13).

(c) Applicability

This AD applies to Honda Aircraft Company LLC Model HA-420 airplanes, serial numbers 42000011 through 42000179, 42000182, and 42000187, certificated in any category, with a windshield assembly installed that has a part number and serial number listed in table 5 of the Accomplishment Instructions in Honda Aircraft Company Alert Service Bulletin SB-420-56-002, Revision B, dated April 19, 2021 (Honda SB-420-56-002, Revision B).

(d) Subject

Joint Aircraft System Component (JASC) Code 3040, Windshield/Door Rain/Ice Removal.

(e) Unsafe Condition

This AD was prompted by a report of in-flight smoke and fire that initiated from the windshield heat power wire braid. The FAA is issuing this AD to prevent arcing of the windshield heat power wire braid, which could ignite the wire sheathing and sealant and the windshield acrylic. This condition, if not addressed, could lead to cockpit smoke and fire.

(f) Compliance

Comply with this AD within the compliance times specified, unless already done.

(g) Temporary Revisions to the Airplane Flight Manuals (AFMs) and Quick Reference Handbooks (QRHs)

(1) Within 15 days after the effective date of this AD, revise the existing AFM and QRH for your airplane by inserting the pages identified in the applicable temporary revisions listed in paragraphs (g)(1)(i) through (iv) of this AD.

(i) Honda Aircraft Company Temporary Revision TR 04A-1, dated 2020, for Airplane Flight Manual HJ1-29001-003-001 Rev C.

(ii) HondaJet Temporary Revision TR 04A-1, dated 2020, for Quick Reference Handbook HJ1-29000-007-001 Rev C.

(iii) Honda Aircraft Company Temporary Revision TR 04A-1, dated 2020, for Airplane Flight Manual HJ1-29001-003-001 Rev E.

(iv) HondaJet Temporary Revision TR 04A-1, dated 2020, for Quick Reference Handbook Normal Procedures, HJ1-29001-007-001 Rev E.

(2) The actions required by paragraph (g)(1) of this AD may be performed by the owner/operator (pilot) holding at least a private pilot certificate and must be entered into the aircraft records showing compliance with this AD in accordance with 14 CFR 43.9(a)(1) through (4), and 14 CFR 91.417(a)(2)(v). The record must be maintained as required by 14 CFR 91.417, 121.380, or 135.439.

(h) Windshield Assembly Replacement

Within 24 months after April 18, 2022 (the effective date of AD 2022-05-13), for each windshield assembly with a part number and serial number listed in table 5 of the Accomplishment Instructions in Honda SB-420-56-002, Revision B, replace the windshield assembly in accordance with step (2) or (3) of the Accomplishment Instructions in Honda SB-420-56-002, Revision B.

(i) Removal of Revisions to the AFMs and QRHs

Before further flight after replacing the windshield assemblies required by paragraph (h) of this AD, remove the AFM and QRH pages that were required by paragraph (g) of this AD.

(j) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k) of this AD.

(2) Before using any approved AMOC, notify your appropriate principal inspector, or lacking a principal inspector, the manager of the local flight standards district office/certificate holding district office.

(3) AMOCs approved previously in accordance with AD 2022-05-13 are approved as AMOCs for the corresponding requirements in paragraph (g) of this AD.

(4) For service information that contains steps that are labeled as “Required for Compliance” (RC), the following provisions apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

For more information about this AD, contact Bryan Long, Aviation Safety Engineer, Atlanta ACO Branch, FAA, 1701 Columbia Avenue, College Park, GA 30337; phone: (404) 474-5578; email: 9-ASO-ATLACO-ADs@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 22, 2022.

(i) Honda Aircraft Company Temporary Revision TR 04A-1, dated 2020, for Airplane Flight Manual HJ1-29000-003-001 Rev E.

(ii) Honda Aircraft Company Temporary Revision TR 04A-1, dated 2020, for Airplane Flight Manual HJ1-29001-003-001 Rev C.

(iii) HondaJet Temporary Revision TR 04A-1, dated 2020, for Quick Reference Handbook HJ1-29000-007-001 Rev E.

(iv) HondaJet Temporary Revision TR 04A-1, dated 2020, for Quick Reference Handbook HJ1-29001-007-001 Rev C.

(4) The following service information was approved for IBR on April 18, 2022 (87 FR 14155, March 14, 2022).

(i) Honda Aircraft Company Alert Service Bulletin SB-420-56-002, Revision B, dated April 19, 2021.

(ii) [Reserved]

(5) For service information identified in this AD, contact Honda Aircraft Company LLC, 6430 Ballinger Road, Greensboro, NC 27410; phone: (336) 662-0246; website: hondajet.com.

(6) You may view this service information at FAA, Airworthiness Products Section, Operational Safety Branch, 901 Locust, Kansas City, MO 64106. For information on the availability of this material at the FAA, call (817) 222-5110.

(7) You may view this service information that is incorporated by reference at the National Archives and Records Administration (NARA). For information on the availability of this material at NARA, email: fr.inspection@nara.gov, or go to: archives.gov/federal-register/cfr/ibr-locations.html.

Issued on August 17, 2022.
Christina Underwood,
Acting Director, Compliance & Airworthiness Division, Aircraft Certification Service.

[FR Doc. 2022-19021 Filed 9-1-22; 8:45 am]

BILLING CODE 4910-13-P